ENVIRONMENTAL PROTECTION AGENCY

[OPP-66281; FRL-6753-9]

Notice of Receipt of Requests to Voluntarily Cancel Certain Pesticide Registrations

AGENCY: Environmental Protection Agency (EPA).

ACTION: Notice.

SUMMARY: In accordance with section 6(f)(1) of the Federal Insecticide, Fungicide and Rodenticide Act (FIFRA), as amended, EPA is issuing a notice of receipt of requests by registrants to voluntarily cancel certain pesticide registrations.

DATES: Unless a request is withdrawn by, May 21, 2001, unless indicated otherwise, orders will be issued canceling all of these registrations.

FOR FURTHER INFORMATION CONTACT: By mail: James A. Hollins, Office of Pesticide Programs (7502C), Environmental Protection Agency, 1200 Pennsylvania Avenue, N.W., Washington, DC 20460. Office location for commercial courier delivery, telephone number and e-mail address: Rm. 224, Crystal Mall No. 2, 1921 Jefferson Davis Highway, Arlington, VA 22202, (703) 305-5761; e-mail: hollins.james@epa.gov.

SUPPLEMENTARY INFORMATION:

I. General Information

A. Does this apply to me?

This action is directed to the public in general. Although this action may be of particular interest to persons who produce or use pesticides, the Agency has not attempted to describe all the specific entities that may be affected by this action. If you have any questions regarding the information in this notice, consult the person listed in the FOR FURTHER INFORMATION CONTACT.

B. How can I get additional information or copies of support documents?

1. Electronically. You may obtain electronic copies of this document and certain other related documents that might be available electronically, from the EPA Internet Home Page at http://www.epa.gov. To access this document, on the Home Page select “Laws and Regulations” “Regulations and Proposed Rules,” and then look up the entry for this document under the “Federal Register—Environmental Documents.” You can also go directly to the Federal Register listing at http://www.epa.gov/fedrgstr/.

2. In person. Contact James A. Hollins at 1921 Jefferson Davis Highway, Crystal Mall 2, Rm. 224, Arlington, VA, telephone number (703) 305-5761. Available from 7:30 a.m. to 4:45 p.m., Monday thru Friday, excluding legal holidays.

II. What Action is the Agency Taking?

This Notice announces receipt by the Agency of applications from registrants to cancel some 22 pesticide products registered under section 3 or 24(c) of FIFRA. These registrations are listed in sequence by registration number (or company number and 24(c) number) in the following Table 1:

Table 1. — Registrations With Pending Requests for Cancellation
Registration No. | Product Name | Chemical Name
000241-00297 | Squadron Herbicide | N-(1-Ethylpropyl)-3,4-dimethyl-2,6-dinitrobenzenamine
|  | 3-Quinolinecarboxylic acid, 2-(4,5-dihydro-4-methyl-4-(1-methylethyl)-
000241-00373 | Squadron(R) Dg Herbicide | N-(1-Ethylpropyl)-3,4-dimethyl-2,6-dinitrobenzenamine
|  | 2-(4,5-Dihydro-4-methyl-4-(1-methylethyl)-5-oxo-1H-imidazol-2-yl)-3-
000264-00411 | Larvin 90MC Thiodicarb Insecticide | Dimethyl N,N'-(thiobis((methylimino)carbonyloxy))bis(ethanimidothioate)
000279-02659 | Thiodan 2 C.O. EC Insecticide | 6,7,8,9,10-Hexachloro-1,5,5a,6,9,9a-hexahydro-6,9-methano-2,4,3-benzodioxathiepin-3-oxide
000400-00464 | Dimilin W-25 | 1-(4-Chlorophenyl)-3-(2,6-difluorobenzoyl)urea
000524 WA-98-0010 | Rodeo Aquatic Herbicide | Isopropylamine glyphosate ( N-(phosphonomethyl)glycine )
000802-00235 | Miller's Captan 5D | cis-N-Trichloromethylthio-4-cyclohexene-1,2-dicarboximide
001448-00094 | Busan 1029 | 2-(Thiocyanomethylthio)benzothiazole
|  | Methylene bis(thiocyanate)
001448-00249 | M-5-26 | 2-(Thiocyanomethylthio)benzothiazole
|  | Methylene bis(thiocyanate)
002749-00264 | Spud Nic-4 | Isopropyl N-(3-chlorophenyl)carbamate
002749-00514 | Triflur AT 4 | Trifluralin (a,a,a-trifluro-2,6-dinitro-N,N-dipropyl-p-toluidine) (Note: a = alpha)
003876-00157 | Dearcide 792 | Glutaraldehyde
|  | 5-Chloro-2-methyl-3(2H)-isothiazolone
|  | 2-Methyl-3(2H)-isothiazolone
005481-00172 | Alco Trifluralin Emulsifiable Concentrate | Trifluralin (a,a,a-trifluro-2,6-dinitro-N,N-dipropyl-p-toluidine) (Note: a = alpha)
005481 WA-97-0016 | Vapam Soil Fumigant Solution for All Crops | Sodium N-methyldithiocarbamate
005481 WA-97-0017 | Vapam Soil Fumigant Solution for All Crops | Sodium N-methyldithiocarbamate
007173 CA-77-0015 | Rozol Ground Squirrel Bait | 2-((p-Chlorophenyl)phenylacetyl)-1,3-indandione
007173 NV-92-0001 | Rozol Paraffinized Pellets | 2-((p-Chlorophenyl)phenylacetyl)-1,3-indandione
007173 OR-92-0001 | Rozol Paraffinized Pellets | 2-((p-Chlorophenyl)phenylacetyl)-1,3-indandione
007173 WA-84-0029 | Rozol Paraffinized Pellets | 2-((p-Chlorophenyl)phenylacetyl)-1,3-indandione
058185-00016 | Koban 1.3 G | 5-Ethoxy-3-(trichloromethyl)-1,2,4-thiadiazole
058185-00019 | Koban Flowable | 5-Ethoxy-3-(trichloromethyl)-1,2,4-thiadiazole
058185-00020 | Truban Flowable | 5-Ethoxy-3-(trichloromethyl)-1,2,4-thiadiazole
NOTE: Registrant requested a 30-day comment period for EPA Registration Number: 000279-02659.

Unless a request is withdrawn by the registrant within 180 days (30 days when requested by registrant) of publication of this notice, orders will be issued canceling all of these registrations. Users of these pesticides or anyone else desiring the retention of a registration should contact the applicable registrant during this comment period.

The following Table 2 includes the names and addresses of record for all registrants of the products in Table 1, in sequence by EPA company number:

Table 2. — Registrants Requesting Voluntary Cancellation
EPA Company No. | Company Name and Address
000241 | BASF Corp., Box 13528, Research Triangle Park, NC 27709.
000264 | Aventis Cropscience Usa Lp, 2 T.W. Alexander Drive, Research Triangle Park, NC 27709.
000279 | FMC Corp. Agricultural Products Group, 1735 Market St, Philadelphia, PA 19103.
000400 | Uniroyal Chemical Co Inc., 74 Amity Rd., Bethany, CT 06524.
000524 | Monsanto Co, Agent For: Monsanto Agricultural Co, 600 13th Street, NW, Suite 660, Washington, DC 20005.
000802 | The Garden Grow Co., 6500 Hanna Rd., Box 100, Independence, OR 97351.
001448 | Buckman Laboratories Inc., 1256 North Mclean Blvd, Memphis, TN 38108.
002749 | Aceto Agriculture Chemicals Corp., One Hollow Lane, Lake Success, NY 11042.
003876 | Betzdearborn (Attn: Kevin Manning), Division of Hercules Inc., 4636 Somerton Rd., Trevose, PA 19053.
005481 | Amvac Chemical Corp., Attn: Jon C. Wood, 4695 MacArthur Ct., Suite 1250, Newport Beach, CA 92660.
007173 | Liphatech, Inc., 3101 W. Custer Ave, Milwaukee, WI 53209.
058185 | Scotts-Sierra Crop Protection Co., Attn: Vincent Snyder, Jr, 14111 Scottslawn Rd., Marysville, OH 43041.

III. What is the Agency's Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Procedures for Withdrawal of Request

Registrants who choose to withdraw a request for cancellation must submit such withdrawal in writing to James A. Hollins, at the address given above, postmarked before May 21, 2001, unless indicated otherwise. This written withdrawal of the request for cancellation will apply only to the applicable 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received by the Agency. This policy is in accordance with the Agency's statement of policy as prescribed in Federal Register June 26, 1991; (56 FR 29362) (FRL 3846-4). Exception to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold or used legally until they are exhausted, provided that such further sale and use comply with the EPA-approved label and labeling of the affected product(s). Exceptions to these general rules will be made in specific cases when more stringent restrictions on sale, distribution, or use of the products or their ingredients have already been imposed, as in Special Review actions, or where the Agency has identified significant potential risk concerns associated with a particular chemical.

List of Subjects

Environmental protection, Pesticides and pests, Product registrations.

Dated: November 13, 2000.
Richard D. Schmitt,
Associate Director, Information Resources and Services Division, Office of Pesticide Programs.

[FR Doc. 00-29896 Filed 11-21-00; 8:45 a.m.]

BILLING CODE 6560-50-S